POSTAL SERVICE

39 CFR Part 20

International Competitive Services Price Changes

AGENCY: Postal Service™.

ACTION: Final action.

SUMMARY: The Postal Service is revising Notice 123, Price List, to reflect the price changes to Competitive Services as established by the Governors of the Postal Service.

DATES: Effective July 10, 2022.

FOR FURTHER INFORMATION CONTACT: Dale Kennedy at 202-268-6592 or Kathy Frigo at 202-268-4178.

SUPPLEMENTARY INFORMATION: New prices are posted under Docket Number CP2022-62 on the Postal Regulatory Commission's website at http://www.prc.gov.

This final rule describes the international price changes for the following Competitive Services:

• International Insurance.

• International Postal Money Orders.

• International Money Order Inquiry Fee.

• International Money Transfer Service.

New prices will be located on the Postal Explorer website at https://pe.usps.com.

International Extra Services and Fees

Depending on country destination and mail type, customers may add a variety of extra services to their outbound shipments and pay a variety of fees.

The Postal Service proposes to increase fees for certain competitive international extra services as follows:

• GXG insurance: There is no charge for GXG insurance for coverage up to $100. The fee for GXG insurance will increase to $2.10 for each additional $100 or fraction over $100, up to a maximum indemnity of $2,499 per shipment (the maximum indemnity varies by country).

GXG Insurance coverage | Fee
Not over $100 | $0.00
Each additional $100 or fraction over $100 | 2.10

Maximum insurance $2,499 (varies by country).

• PMEI and PMI insurance: There is no charge for PMEI and PMI merchandise insurance coverage up to $200. The fee for PMEI and PMI merchandise insurance for each additional $100 or fraction over $200 is set forth in the table below, up to a maximum indemnity of $5,000 (the maximum indemnity varies by country).

Indemnity limit not over | Fee
Up to $200 | $0.00
$200.01-$300.00 | 11.05
300.01-400.00 | 14.00
400.01-500.00 | 16.95
500.01-600.00 | 19.90
600.01-700.00 | 22.85
700.01-800.00 | 25.80
800.01-900.00 | 28.75

$28.75 plus $2.95 per $100 or fraction thereof over $900 in declared value. Maximum insurance $5,000 (varies by country).

• International Postal Money Orders: The fee for international postal money orders will increase to $49.65.

• International Money Order Inquiry: The fee for international money orders inquiry will increase to $36.45.

• International Money Transfer Service (Sure Money® service): Prices for international money transfer service will be as follows:

International money transfer service (sure money) | Fee
$0.01-$750.00 | $69.30
750.01-1500.00 | 100.25
Refunds | 151.90
Change of Recipient | 80.80

Sarah Sullivan,
Attorney, Ethics and Legal Compliance.

[FR Doc. 2022-10500 Filed 5-16-22; 8:45 am]

BILLING CODE 7710-12-P